DEPARTMENT OF HEALTH AND HUMAN SERVICES

Administration for Children and Families

Submission for OMB Review; Comment Request

Title: TANF Time Limits Questionnaire.

OMB No.: New Collection.

Description: The imposition of federally imposed time limits on the receipt of cash assistance under the Temporary Assistance to Needy Families (TANF) program was a central and major part of welfare reform. The earliest that TANF recipients could be affected by the 60-month Federal limit will be in the last quarter of 2001. The purpose of the TANF Time Limits project is to document what is known about this important element of welfare reform as the period for TANF re-authorization approaches. The proposed survey instrument is intended to obtain “ real-time” information from those States in which TANF recipients could have reached the 60 month limit on receipt of federally funded assistance in the last quarter of calendar year 2001 or terminated earlier under a State specific time limit. The instrument is designed to gather preliminary information about the number of families accumulating 60 months of benefits, the outcomes for such families (e.g., cases closed, benefits extended with Federal funds, benefits extended with State funds), and the policies and practices of states to work with families approaching or reaching the Federal and State time limit.

Respondents: The primary respondents for the questionnaire are those States that implemented TANF before February 1997. States that implemented TANF later might also be surveyed.

Annual Burden Estimates

Instrument | Number of respondents | Number of responses per respondent | Average burden hours per response | Total burden hours
TANF Time Limits Questionnaire. State where:
No one could have reached a time limit
First call | 18 | 1 | .25 | 4.5
Written survey | 18 | 1 | 10 | 180
Second call | 18 | 1 | .5 | 9
Only state time limit is binding
First call | 16 | 1 | .25 | 4
Written survey | 16 | 1 | 14 | 224
Second call | 16 | 1 | 1 | 16
Only federal time limit is binding
First call | 13 | 1 | .25 | 3.25
Written survey | 13 | 1 | 21 | 273
Second call | 13 | 1 | 1 | 13
Federal and state time limits are binding.
First call | 4 | 1 | .25 | 1
Written survey | 4 | 1 | 23 | 92
Second call | 4 | 1 | 1.5 | 6
Estimated Total Annual Hours: |  |  |  | 825.75

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: November 1, 2001.
Bob Sargis,
Reports Clearance Officer.

[FR Doc. 01-27980 Filed 11-6-01; 8:45 am]

BILLING CODE 4184-01-M